DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection, the Organic Certifiers Survey. This will be a voluntary survey that will be conducted annually.

DATES: Comments on this notice must be received by November 24, 2014 to be assured of consideration.

ADDRESSES: You may submit comments, identified by docket number 0535-NEW, by any of the following methods:

• Email: ombofficer@nass.usda.gov. Include docket number above in the subject line of the message.

• eFax: (855) 838-6382.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: Renee Picanso, Associate Administrator, National Agricultural Statistics Service, U.S. Department of Agriculture, (202) 720-2707. Copies of this information collection and related instructions can be obtained without charge from David Hancock, NASS Clearance Officer, at (202) 690-2388.

SUPPLEMENTARY INFORMATION:

Title: Organic Certifiers Survey

OMB Control Number: 0535-NEW

Type of Request: Intent to seek approval to conduct a new information collection for a period of three years.

Abstract: The primary objective of the National Agricultural Statistics Service (NASS) is to prepare and issue State and national estimates of crop and livestock production, prices, and disposition as well as economic statistics, farm numbers, land values, on-farm pesticide usage, pest crop management practices, as well as the Census of Agriculture.

The sample will consist of all organizations that certify farm and ranch operations that have met the Federal standards to be classified as organic producers. The survey will collect data for all States that have certified producers (crops and livestock). The survey will collect the number of operations that are certified organic for each State, along with the number of acres certified for the various crops, and the number of head of livestock and poultry certified as organic. The data will be used by NASS as administrative data so that future needs to collect organic data from farm and ranch operations can be kept to a minimum.

The National Agricultural Statistics Service will publish summaries once a year at the State level and for each major organic commodity when possible. Due to confidentiality rules, some State level data may be combined and published at the regional or national level to prevent disclosure of individual operation's data.

Authority: These data will be collected under the authority of 7 U.S.C. 2204(a). Individually identifiable data collected under this authority are governed by Section 1770 of the Food Security Act of 1985, 7 U.S.C. 2276, which requires USDA to afford strict confidentiality to non-aggregated data provided by respondents. This Notice is submitted in accordance with the Paperwork Reduction Act of 1995 Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: This data collection will be done in a two step process. The first step will involve a personal visit from one of our State or Regional Field Office statisticians with the managers of these certifying organizations to introduce them to NASS and to discuss the data collection needs. NASS will also collect some basic profile information at that time. This initial visit should take approximately 1 hour. The second step will involve the compiling and reporting of the data. In this second step it is estimated to take the respondent less than 15 hours to compile and report the data for their state(s). If the respondent would like to provide one of our field enumerators access to their data, we will compile the data for the respondent(s). The surveys will be voluntary and will be conducted once a year.

Respondents: Organic certifying organizations

Estimated Number of Respondents: 55

Estimated Total Annual Burden on Respondents: Approximately 900 hours

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, September 11, 2014.
R. Renee Picanso,
Associate Administrator.

[FR Doc. 2014-22831 Filed 9-24-14; 8:45 am]

BILLING CODE 3410-20-P